FEDERAL MARITIME COMMISSION

[Docket No. 05-04]

Marco Mendoza and Cynthia Mendoza, DBA C&M Precision Instrument v. Georgio Gori USA, Inc., and Phillip Zelinka; Notice of Filing of Complaint and Assignment

Notice is given that a complaint has been filed with the Federal Maritime Commission (“Commission”) by Marco Mendoza and Cynthia Mendoza, dba C&M Precision Instrument (“Complainants”) against Georgio Gori USA, Inc., and Phillip Zelinka (“Respondents”). Complainants contend that Respondents violated section 10 of the Shipping Act of 1984, 46 U.S.C. app. 1709. Complainants claim that Respondents' conduct amounts to the use of unjust means to obtain ocean transportation at less then the rates or charges that would otherwise be applicable. Complainants seeks an order commanding Respondents to pay reparations in the amount of $60,741.00 with interest and attorney's fees or such other sum as the Commission may deem proper and such other order or orders as the Commission determines to be proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by June 28, 2006 and the final decision of the Commission shall be issued by October 26, 2006.

Bryant L. VanBrakle,
Secretary.

[FR Doc. 05-13254 Filed 7-5-05; 8:45 am]

BILLING CODE 6730-01-P